ENVIRONMENTAL PROTECTION AGENCY

[EPA-HQ-OPP-2009-0186; FRL-8410-7]

Clomazone and Fomesafen Registration Review Draft Ecological Risk Assessments; Notice of Availability; Extension of Comment Period

AGENCY: Environmental Protection Agency (EPA).

ACTION: Notice; extension of comment period.

SUMMARY: EPA issued a notice in the Federal Register of April 22, 2009, concerning the availability of EPA's draft ecological risk assessments for the registration review of both clomazone and fomesafen and opened a public comment period on these documents. This document extends the comment period for 60 days, from June 22, 2009 to August 21, 2009.

DATES: Comments, identified by docket identification (ID) number EPA-HQ-OPP-2009-0186 (74 FR 18374), must be received on or before August 21, 2009.

ADDRESSES: Follow the detailed instructions as provided under ADDRESSES in the Federal Register document of April 22, 2009 (74 FR 18374).

FOR FURTHER INFORMATION CONTACT: For pesticide specific information, contact: The chemical review manager identified in the Federal Register document of April 22, 2009 for the pesticide of interest.

For general questions on the registration review program, contact: Kevin Costello, Special Review and Reregistration Division (7508P), Office of Pesticide Programs, Environmental Protection Agency, 1200 Pennsylvania Ave., NW., Washington, DC 20460-0001; telephone number: (703) 305-5026; e-mail address: costello.kevin@epa.gov.

For general questions on OPP's Endangered Species Protection Program contact: Arty Williams, Environmental Fate and Effects Division (7508P), Office of Pesticide Programs, Environmental Protection Agency, 1200 Pennsylvania Ave., NW., Washington, DC 20460-0001; telephone number (703) 305-7695; fax number (703) 308-4776; e-mail address: williams.arty@epa.gov.

SUPPLEMENTARY INFORMATION: This document extends the public comment period established in the Federal Register of April 22, 2009, 74 FR 18374 (FRL-8410-7). In that document, EPA announced the availability of the draft ecological risk assessments for the registration review of both clomazone and fomesafen and opened a public comment period on these documents. EPA is hereby extending the comment period, which was set to end on June 22, 2009, to August 21, 2009.

To submit comments, or access the public docket, please follow the detailed instructions as provided under ADDRESSES in the April 22, 2009 Federal Register document. If you have questions, consult the person listed under FOR FURTHER INFORMATION CONTACT.

List of Subjects

Environmental protection, Registration Review, Pesticide pests.

Dated: June 10, 2009.
Richard P. Keigwin, Jr.,
Director, Special Review and Reregistration Division, Office of Pesticide Programs.

[FR Doc. E9-14227 Filed 6-16-09; 8:45 am]

BILLING CODE 6560-50-S